DEPARTMENT OF HOMELAND SECURITY

Federal Emergency Management Agency

[Docket ID FEMA-2013-0018; OMB No. 1660-0061]

Agency Information Collection Activities: Submission for OMB Review; Comment Request, Federal Assistance to Individuals and Households Program (IHP)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 27, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Federal Assistance to Individuals and Households Program (IHP).

Type of Information Collection: Revision of a currently approved information collection.

OMB Number: 1660-0061.

Form Titles and Numbers: FEMA Form 010-0-11, Administrative Option Agreement for the Other Needs provision of Individuals and Households Program (IHP); FEMA Form 010-0-12, Request for Continued Assistance (Application for Continued Temporary Housing Assistance); FEMA Form 010-0-12S (Spanish) Solicitud para Continuar la Asistencia de Vivienda Temporera.

Abstract: The Federal Assistance to Individuals and Households Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: State, Local or Tribal Government.

Estimated Number of Respondents: 59,073.

Estimated Total Annual Burden Hours: 65,267 hours.

Estimated Cost: The estimated annual cost to respondents for the hour burden is $2,043,275.28. There are no annual costs to respondents operations and maintenance costs for technical services. There is no annual start-up or capital costs. The cost to the Federal Government is $213,556.60.

Dated: May 21, 2014.
Charlene D. Myrthil,
Director, Records Management Division, Mission Support Bureau, Federal Emergency Management Agency, Department of Homeland Security.

[FR Doc. 2014-12335 Filed 5-27-14; 8:45 am]

BILLING CODE 9111-23-P